CONSUMER PRODUCT SAFETY COMMISSION

[Docket No. CPSC-2018-0005]

Agency Information Collection Activities; Proposed Collection; Comment Request; Survey on Smoke and Carbon Monoxide Alarms

AGENCY: Consumer Product Safety Commission.

ACTION: Notice.

SUMMARY: As required by the Paperwork Reduction Act of 1995, the Consumer Product Safety Commission (CPSC or Commission) requests comments on a proposed extension of approval for an information collection on a survey that will estimate the use of smoke and carbon monoxide alarms in United States households. The Office of Management and Budget (OMB) previously approved the collection of information under OMB Control No. 3041-0180. The current information collection will expire on October 31, 2021. CPSC will consider all comments received in response to this notice before requesting an extension of approval of this collection of information from OMB.

DATES: Submit written or electronic comments on the collection of information by September 21, 2021.

ADDRESSES: You may submit comments, identified by Docket No. CPSC-2018-0005, by any of the following methods:

Electronic Submissions: Submit electronic comments to the Federal eRulemaking Portal at: https://www.regulations.gov. Follow the instructions for submitting comments. CPSC does not accept comments submitted by electronic mail (email), except through https://www.regulations.gov and as described below. CPSC encourages you to submit electronic comments by using the Federal eRulemaking Portal, as described above.

Mail/hand delivery/courier Written Submissions: Submit comments by mail/hand delivery/courier to: Division of the Secretariat, Consumer Product Safety Commission, 4330 East West Highway, Bethesda, MD 20814; telephone: (301) 504-7479. Alternatively, as a temporary option during the COVID-19 pandemic, you may email such submissions to: cpsc-os@cpsc.gov.

Instructions: All submissions must include the agency name and docket number for this notice. CPSC may post all comments received without change, including any personal identifiers, contact information, or other personal information provided, to: https://www.regulations.gov. Do not submit electronically: Confidential business information, trade secret information, or other sensitive or protected information that you do not want to be available to the public. If you wish to submit such information, please submit it according to the instructions for mail/hand delivery/courier written submissions.

Docket: For access to the docket to read background documents or comments received, go to: https://www.regulations.gov, insert Docket No. CPSC-2018-0005 into the “Search” box, and follow the prompts. A copy of the proposed survey titled “SCOA ICR 2021 60-day” is available at: http://www.regulations.gov under Docket No. CPSC-2018-0005, Supporting and Related Material.

FOR FURTHER INFORMATION CONTACT: Cynthia Gillham, Consumer Product Safety Commission, 4330 East West Highway, Bethesda, MD 20814; (301) 504-7991, or by email to: cgillham@cpsc.gov.

SUPPLEMENTARY INFORMATION:

A. Background

The Commission is authorized under section 5(a) of the Consumer Product Safety Act (CPSA), 15 U.S.C. 2054(a), to conduct studies and investigations relating to the causes and prevention of deaths, accidents, injuries, illnesses, other health impairments, and economic losses associated with consumer products. Section 5(b) of the CPSA, 15 U.S.C. 2054(b), further provides that the Commission may conduct research, studies, and investigations on the safety of consumer products or test consumer products and develop product safety test methods and testing devices.

In 1992, the CPSC sponsored a national in-home survey to collect information on the number of residential smoke alarms in actual use in homes and to evaluate the operability of the sampled alarms. The results were published in the 1994 report, Consumer Product Safety Commission Smoke Detector Operability Survey Report on Findings.¹ Although the survey results were instrumental for many years in developing state and local codes and standards related to smoke alarms, subsequent changes in technology, installation codes, and state/local ordinances in the past 25 years have rendered the information outdated and less effective. Stakeholders' groups for fire loss prevention have identified a need for an updated national survey to increase the installation and maintenance of smoke alarms in the United States. In addition, installations of CO alarms have increased since 1992. Accordingly, CPSC sought to update its data information collection related to smoke and CO alarm use through a new survey, the National Smoke and CO Alarm Survey (SCOA survey).

¹ 1. Charles L. Smith, Smoke Detector Operability Survey—Report on Findings, (Bethesda, MD: CPSC, November 1993).

Although the SCOA survey initially commenced in January 2019, CPSC experienced lower response rates relative to expectations in the administration of the SCOA survey in fielding locations than had been established by the study's approved methodology. To correct for this challenge, and to complete the number of homes surveyed in the contract, CPSC undertook a revised sampling method and contact protocol of participant recruitment. Among the revisions to the methodology, CPSC included a redesign of the recruitment, screening, and in-home survey based on a random walk door-to-door knocking sample methodology. The SCOA survey seeks to collect information from 1,185 households within the United States. The survey will be conducted only through face-to-face, in-home interviews. Following all COVID-19 safety precautions, survey professionals will provide pre-notification door hangers requesting participation in the survey. These households will be recruited, and willing participants will be provided with consent forms, and the survey team will administer questions regarding the residence type, and smoke and CO alarm availability and functionality in the residences. The survey team also will identify, test, and examine several of the alarms in the home, as time permits, and if they are found faulty, provide new alarms or batteries, if requested by the participant. No action will be taken if participants choose not to have the alarm fixed or replaced.

CPSC entered into a contract with Eureka Facts to conduct the SCOA survey through a national in-home survey that would estimate the use and functionality of smoke and CO alarms in households, as well as assess user hazard perceptions regarding such alarms. The purpose of the SCOA survey is to collect data that will assist CPSC with better estimation of the number and types of smoke and CO alarms installed in U.S. households, the proportion of working smoke and CO alarms, the characteristics of residences and residents where the smoke and CO alarms are not operational, perceptions of residents related to the causes of “false” alarms or causes of faulty alarms, consumer hazard awareness, and consumer behavior related to alarm use and smoke and CO hazards.

The information collected from the SCOA survey would provide CPSC updated national estimates regarding the use of smoke alarms and CO alarms in households, based on direct observation of alarm installations. The survey also would help CPSC identify the groups that do not have operable smoke alarms and/or CO alarms and understand the reasons why they do not have such alarms. With this information, CPSC would be able to target better its messaging to improve consumer use and awareness regarding the operability of these alarms. In addition, the survey results would help to inform CPSC's recommendations to voluntary standards groups and state/local jurisdictions regarding their codes, standards, and/or regulations on smoke and CO alarms.

B. Burden Hours

We estimate the number of respondents to be 1,185. We estimate the total annual burden hours for respondents to be 1,552 hours, based on the total time required to respond to the invitation, screener, and the actual survey. According to the U.S. Bureau of Labor Statistics, the total compensation for civilian workers in March 2021 was $39.01 per hour (Employer Cost for Employee Compensation, Table 2, https://www.bls.gov/news.release/ecec.t02.htm). Therefore, CPSC estimates the cost burden for respondents to be $60,544 ($39.01 per hour × 1,552 hours = $60,543.52). The total cost to the federal government for the contract to design and conduct the revised survey is $562,725.

C. Request for Comments

The CPSC invites comments on these topics:

• Whether the proposed collection of information is necessary for the proper performance of CPSC's functions, including whether the information will have practical utility;

• The accuracy of CPSC's estimate of the burden of the proposed collection of information, including the validity of the methodology and assumptions used;

• Ways to enhance the quality, utility, and clarity of the information to be collected; and

• Ways to minimize the burden of the collection of information on respondents, including through the use of automated collection techniques, when appropriate, and other forms of information technology.

Alberta E. Mills,
Secretary, Consumer Product Safety Commission.

[FR Doc. 2021-15735 Filed 7-22-21; 8:45 am]

BILLING CODE 6355-01-P